DEPARTMENT OF COMMERCE

National Oceanic and Atmospheric Administration

RIN 0648-XA250

Fisheries of the South Atlantic; Southeast Data, Assessment, and Review (SEDAR); Public Meetings

AGENCY: National Marine Fisheries Service (NMFS), National Oceanic and Atmospheric Administration (NOAA), Commerce.

ACTION: Notice of SEDAR Data and Assessment Workshops for South Atlantic black sea bass (Centropristis striata) and golden tilefish (Lopholatilus chamaeleonticeps).

SUMMARY: The SEDAR assessments of the South Atlantic stock of black sea bass and golden tilefish will consist of a series of three workshops: A Data Workshop, an Assessment Workshop, and a Review Workshop. The Review Workshop date, time, and location will publish in a subsequent issue in the Federal Register.

DATES: The Data Workshop will take place April 26-28, 2011; the Assessment Workshop will take place June 21-23, 2011.

ADDRESSES: The Data Workshop will be held at the Marriott Lockwood, 170 Lockwood Boulevard, Charleston, SC 29403; telephone: (800) 968-3569. The Assessment Workshop will be held in the auditorium at the NOAA Center for Coastal Fisheries and Habitat Research, 101 Pivers Island Rd, Beaufort, NC 28516; telephone: (252) 728-8607.

Council address: South Atlantic Fishery Management Council, 4055 Faber Place Drive, Suite 201, North Charleston, SC 29405.

FOR FURTHER INFORMATION CONTACT: Kari Fenske, SEDAR Coordinator, 4055 Faber Place Drive, Suite 201, North Charleston, SC 29405; telephone: (843) 571-4366; e-mail: kari.fenske@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and State and Federal agencies.

SEDAR 25 Workshop Schedule

April 26-28, 2011; SEDAR 25 Data Workshop

April 26, 2011: 9 a.m.-8 p.m.; April 27, 2011: 8 a.m.-8 p.m.; April 28, 2011: 8 a.m.-1 p.m.

An assessment data set and associated documentation will be developed during the Data Workshop. Participants will evaluate all available data and select appropriate sources for providing information on life history characteristics, catch statistics, discard estimates, length and age composition, and fishery dependent and fishery independent measures of stock abundance, as specified in the Terms of Reference for the workshop.

June 21-23, 2011; SEDAR 25 Assessment Workshop

June 21, 2011: 9 a.m.-8 p.m.; June 22, 2011: 8 a.m.-8 p.m.; June 23, 2011: 8 a.m.-1 p.m.

Using datasets provided by the Data Workshop, participants will develop population models to evaluate stock status, estimate population benchmarks and Sustainable Fisheries Act criteria, and project future conditions, as specified in the Terms of Reference. Participants will recommend the most appropriate methods and configurations for determining stock status and estimating population parameters. Participants will prepare a workshop report, compare and contrast various assessment approaches, and determine whether the assessments are adequate for submission to the review panel.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 10 business days prior to each workshop.

Dated: March 10, 2011.
Tracey L. Thompson,
Acting Director, Office of Sustainable Fisheries, National Marine Fisheries Service.

[FR Doc. 2011-6000 Filed 3-14-11; 8:45 am]

BILLING CODE 3510-22-P